DEPARTMENT OF HOUSING AND URBAN DEVELOPMENT

[Docket No. FR-4561-N-70]

Notice of Submission of Proposed Information Collection to OMB; Financial Statement of Corporate Applicant for Cooperative Housing Mortgage

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: November 29, 2000.

ADDRESSES: Interested persons are invited to submit comments regarding this proposal. Comments should refer to the proposal by name and/or OMB approval number (2502-0058) and should be sent to: Joseph F. Lackey, Jr., OMB Desk Officer, Office of Management and Budget, Room 10235, New Executive Office Building, Washington, DC 20503.

FOR FURTHER INFORMATION CONTACT: Wayne Eddins, Reports Management Officer, Q, Department of Housing and Urban Development, 451 Seventh Street, Southwest, Washington, DC 20410; e-mail Wayne_Eddins@HUD.gov; telephone (202) 708-2374. This is not a toll- (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone umber of an agency official familiar with the proposal and of the OMB Desk Officer for the Department.

This Notice also lists the following information:

Title of Proposal: Financial Statement of Corporate Applicant for Cooperative Housing Mortgage.

OMB Approval Number: HUD-93232-A.

Description of The Need For The Information and Its Proposed Use: HUD insures mortgages covering property held by a non-profit cooperative ownership housing cooperation. The Department requires information on the applicant's financial and credit history to determine the capability and capacity of the borrower corporation and the individual members to meet the statutory requirement for repayment.

Frequency of Submission: Monthly.

Reporting Burden:

Number of respondents | x | Frequency of response | x | Hours per response | = | Burden hours
1,500 |  | 1 |  | 2 |  | 3,000

Total Estimated Burden Hours: 3,000.

Status: Reinstatement, with change.

Authority: Section 3507 of the Paperwork Reduction Act of 1995, 44 U.S.C. 35, as amended.

Dated: October 24, 2000
Wayne Eddins,
Departmental Reports Management Officer, Office of the Chief Information Officer.

[FR Doc. 00-27710 Filed 10-27-00; 8:45 am]

BILLING CODE 4210-01-M